DEPARTMENT OF THE INTERIOR

Bureau of Land Management

[LLMT926000-L13100000-EI0000]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on January 27, 2014.

DATES: Protests of the survey must be filed before January 27, 2014 to be considered.

ADDRESSES: Protests of the survey should be sent to the Branch of Cadastral Survey, Bureau of Land Management, 5001 Southgate Drive, Billings, Montana 59101-4669.

FOR FURTHER INFORMATION CONTACT: Blaise Lodermeier, Cadastral Surveyor, Branch of Cadastral Survey, Bureau of Land Management, 5001 Southgate Drive, Billings, Montana 59101-4669, telephone (406) 896-5128 or (406) 896-5009, bloderme@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the BLM Montana State Office, Division of Resources, and was necessary to determine federal leasable mineral lands.

The lands we surveyed are:

Fifth Principal Meridian, North Dakota

T. 153 N., R. 93 W.

The plat, in three sheets, representing the supplemental plat of secs. 8, 18, 20, 26, 28, 33, and 35, showing the amended lottings, Township 153 North, Range 93 West, Fifth Principal Meridian, North Dakota, was accepted December 18, 2013.

T. 153 N., R. 98 W.

The plat, in four sheets, representing the supplemental plat of secs. 11, 12, 13, 14, 21, 22, 23, 24, 26, 27, 28, 29, 30, 31, and 32, showing the amended lottings, Township 153 North, Range 98 West, Fifth Principal Meridian, North Dakota, was accepted December 18, 2013.

T. 153 N., R. 100 W.

The plat, in four sheets, representing the supplemental plat of secs. 5, 6, 7, 8, 9, 27, 28, 29, 32, 33, 34, and 35, showing the amended lottings, Township 153 North, Range 100 West, Fifth Principal Meridian, North Dakota, was accepted December 20, 2013.

T. 154 N., R. 100 W.

The plat, in one sheet, representing the supplemental plat of sec. 31, showing the amended lottings, Township 154 North, Range 100 West, Fifth Principal Meridian, North Dakota, was accepted December 20, 2013.

T. 153 N., R. 101 W.

The plat, in four sheets, representing the supplemental plat of secs. 1, 6, 7, 17, 18, 19, 20, and 30, showing the amended lottings, Township 153 North, Range 101 West, Fifth Principal Meridian, North Dakota, was accepted December 23, 2013.

T. 154 N., R. 101 W.

The plat, in two sheets, representing the supplemental plat of secs. 25, 32, 33, 34, 35, and 36, showing the amended lottings, Township 154 North, Range 101 West, Fifth Principal Meridian, North Dakota, was accepted December 23, 2013.

We will place a copy of the plats, in 18 sheets, in the open files. They will be available to the public as a matter of information. If the BLM receives a protest against this survey, as shown on these plats, in 18 sheets, prior to the date of the official filing, we will stay the filing pending our consideration of the protest. We will not officially file these plats, in 18 sheets, until the day after we have accepted or dismissed all protests and they have become final, including decisions or appeals.

Authority: 43 U.S.C. Chap. 3.

Joshua F. Alexander,
Acting Chief Cadastral Surveyor, Division of Resources.

[FR Doc. 2013-31059 Filed 12-26-13; 8:45 am]

BILLING CODE 4310-DN-P